ENVIRONMENTAL PROTECTION AGENCY

40 CFR Part 52

[EPA-R07-OAR-2019-0477; FRL-10005-35-Region 7]

Air Plan Approval; Iowa; Linn County; State Implementation Plan

AGENCY: Environmental Protection Agency (EPA).

ACTION: Final rule.

SUMMARY: The Environmental Protection Agency (EPA) is approving revisions to the Iowa State Implementation Plan (SIP) to include recent changes to the Linn County Code of Ordinances. The revisions include updating definitions and references to the effective dates the Federal rules were approved into the State's SIP, revising methods and procedures for performance test/stack test and continuous monitoring systems, and updating the Linn County permits program. These revisions will not adversely impact air quality and will ensure consistency between the state and federally approved rules.

DATES: This final rule is effective on March 25, 2020.

ADDRESSES: The EPA has established a docket for this action under Docket ID No. EPA-R07-OAR-2019-0477. All documents in the docket are listed on the https://www.regulations.gov website. Although listed in the index, some information is not publicly available, i.e., CBI or other information whose disclosure is restricted by statute. Certain other material, such as copyrighted material, is not placed on the internet and will be publicly available only in hard copy form. Publicly available docket materials are available through https://www.regulations.gov or please contact the person identified in the FOR FURTHER INFORMATION CONTACT section for additional information.

FOR FURTHER INFORMATION CONTACT: Stephanie Doolan, Environmental Protection Agency, Region 7 Office, Air Quality Planning Branch, 11201 Renner Boulevard, Lenexa, Kansas 66219; telephone number (913) 551-7719; email address doolan.stephanie@epa.gov.

SUPPLEMENTARY INFORMATION: Throughout this document “we,” “us,” and “our” refer to EPA. This section provides additional information by addressing the following:

Table of Contents

I. Background

II. What is being addressed in this document?

III. Have the requirements for approval of the SIP revisions been met?

IV. The EPA's Response to Comments

V. What action is the EPA taking?

VI. Incorporation by Reference

VII. Statutory and Executive Order Reviews

I. Background

On July 3, 2018, the Iowa Department of Natural Resources (IDNR) submitted to EPA a revision to its SIP requesting incorporation of recent changes to the Linn County, Iowa, Code of Ordinances. The Clean Air Act (CAA) allows authorized states to delegate portions of the Act's implementation and enforcement to local governments such as Linn County.

The EPA published a proposal to approve Iowa's SIP revision request in the Federal Register on November 25, 2019 (84 FR 227). No comments were received. The purpose of this action is to grant final approval of Iowa's SIP revision request to incorporate the Linn County Code of Ordinance revisions into Iowa's SIP.

II. What is being addressed in this document?

The EPA is granting final approval of a submission from the State of Iowa to revise its SIP to incorporate recent updates to Chapter 10, Environment, Article III, Air Quality (hereafter referred to as “Chapter 10”) pertaining to air quality. The revisions to the Iowa SIP are incorporating Linn County's updated definitions and references to the effective dates of Federal rules approved into the state's SIP, renumbering, revising methods and procedures for performance test/stack test and continuous monitoring systems, and revising the public notice and participation requirements to allow permit modifications to be published online rather than in area newspapers which is consistent with recent revisions to Iowa's SIP (83 FR 191, October 2, 2018). The EPA is also approving provisions into the Iowa SIP to codify its existing policy and procedures for appealing permits.

As stated in the proposed rulemaking, the EPA is not acting on portions of Linn County Chapter 10-58, Permits for New and Existing Stationary Sources, and Chapter 10-59, Permit Fees, that pertain to Prevention of Significant Deterioration (PSD) regulations because Iowa has not delegated the PSD program authority to Linn County. The EPA is also not acting on the revisions to Chapter 10-67, Excess Emissions at this time.

III. Have the requirements for approval of the SIP revisions been met?

The State submission has met the public notice requirements for SIP submissions in accordance with 40 CFR 51.102. Linn County held a public comment period from April 24, 2018, to May 23, 2018. No comments were received. The submission satisfies the completeness criteria of 40 CFR part 51, appendix V. In addition, as explained in more detail in the proposed rulemaking published in the Federal Register on November 25, 2019, these revisions meet the substantive SIP requirements of the CAA, including section 110 and implementing regulations.

IV. The EPA's Response to Comments

The public comment period for the EPA's proposed rule opened November 25, 2019, the date of its publication in the Federal Register, and closed on December 26, 2019. During this period, the EPA received no comments.

V. What action is the EPA taking?

The EPA is approving revisions to the Iowa SIP to incorporate the revisions to Chapter 10 of the Linn County Code of Ordinances. The revisions clarify rules, make revisions and corrections, and rescind rules no longer relevant to the air program. The EPA has determined that approval of these revisions will not adversely impact air quality and will ensure consistency between the local, state and federally-approved rules, and ensure Federal enforceability of the state's revised air program rules.

VI. Incorporation by Reference

In this document, the EPA is finalizing regulatory text that includes incorporation by reference. In accordance with requirements of 1 CFR 51.5, the EPA is finalizing the incorporation by reference of the Iowa Regulations described in the amendments to 40 CFR part 52 set forth below. The EPA has made, and will continue to make, these materials generally available through www.regulations.gov and at the EPA Region 7 Office (please contact the person identified in the FOR FURTHER INFORMATION CONTACT section of this preamble for more information).

Therefore, these materials have been approved by the EPA for inclusion in the State Implementation Plan, have been incorporated by reference by EPA into that plan, are fully federally enforceable under sections 110 and 113 of the CAA as of the effective date of the final rulemaking of the EPA's approval, and will be incorporated by reference in the next update to the SIP compilation.¹

¹ 62 FR 27968 (May 22, 1997).

VII. Statutory and Executive Order Reviews

Under the CAA, the Administrator is required to approve a SIP submission that complies with the provisions of the Act and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866.

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of the National Technology Transfer and Advancement Act (NTTA) because this rulemaking does not involve technical standards; and

• Does not provide EPA with the discretionary authority to address, as appropriate, disproportionate human health or environmental effects, using practicable and legally permissible methods, under Executive Order 12898 (59 FR 7629, February 16, 1994).

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by April 24, 2020. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2)).

List of Subjects in 40 CFR Part 52

Environmental protection, Air pollution control, Incorporation by reference, Intergovernmental relations, Particulate matter, Reporting and recordkeeping requirements, Volatile organic compounds.

Dated: February 7, 2020.
James Gulliford,
Regional Administrator, Region 7.

For the reasons stated in the preamble, the EPA amends 40 CFR part 52 as set forth below:

PART 52—APPROVAL AND PROMULGATION OF IMPLEMENTATION PLANS

1. The authority citation for part 52 continues to read as follows:

Authority: 42 U.S.C. 7401 et seq.

Subpart Q—Iowa

2. In § 52.820, the table in paragraph (c) is amended by revising the entry “Chapter 10” to read as follows:

§ 52.820 Identification of plan.

* * * * *

(c) * * *

EPA-Approved Iowa Regulations
Iowa citation | Title | State effective date | EPA approval date | Explanation
Iowa Department of Natural Resources Environmental Protection Commission [567]
* * * * * * *
Linn County
Chapter 10 | Linn County Air Quality Ordinance, Chapter 10 | 6/5/2018 | 2/24/2020, [insert Federal Register citation] | The following definitions are not SIP-approved in Chapter 10-55; Anaerobic lagoon, Biomass, Chemical processing plants (ethanol production facilities that produce ethanol by natural fermentation included in NAICS code 325193 or 312140 are not included in this definition); Federally Enforceable; Greenhouse gases; The following sections are not SIP approved: 10-57(a), Title V Permits; 10-59(c), Fees Associated with PSD Applications; 10-61, Emissions From Fuel-Burning Equipment, (c) Exemptions for Residential Heaters Burning Solid Fuels; 10-61, Emissions from Fuel-Burning Equipment, (d) Nuisance Conditions for Fuel Burning Equipment; 10-62, Emission Standards, (b) NSPS; 10-62(c), Emission Standards for HAPs; 10-62(d), Emission Standards for HAPs for Source Categories; 10-64, Emission of Objectionable Odors; 10-70, Testing and Sampling of New and Existing Equipment, (k) Continuous Emissions Monitoring from Acid Rain Program; and 10-77, Penalty.
* * * * * * *

* * * * *

[FR Doc. 2020-02893 Filed 2-21-20; 8:45 am]

BILLING CODE 6560-50-P